DEPARTMENT OF THE TREASURY

Office of Thrift Supervision

[Docket ID: OTS-2010-0026]

OTS Minority Depository Institutions Advisory Committee

AGENCY: Department of the Treasury, Office of Thrift Supervision (OTS).

ACTION: Notice.

SUMMARY: The Charter for the OTS Minority Depository Institutions Advisory Committee will renew for a two-year period beginning August 2, 2010.

FOR FURTHER INFORMATION CONTACT: Deirdre A. Foley, Designated Federal Official, (202) 906-5750, Office of Thrift Supervision, 1700 G Street, NW., Washington, DC 20552.

SUPPLEMENTARY INFORMATION: Notice is hereby given under section 10(a)(2) of the Federal Advisory Committee Act, 5 U.S.C. App. (1988), and with the approval of the Secretary of the Treasury to announce the renewal of the OTS Minority Depository Institutions Advisory Committee (MDIAC). The purpose of the OTS Minority Depository Institutions Advisory Committee is to advise OTS on ways to meet the goals established by section 308 of the Financial Institutions Reform, Recovery, and Enforcement Act of 1989 (FIRREA), Public Law 101-73, Title III, 103 Stat. 353, 12 U.S.C.A. § 1463 note. The goals of section 308 are to preserve the present number of minority institutions, preserve the minority character of minority-owned institutions in cases involving mergers or acquisitions, provide technical assistance, and encourage the creation of new minority institutions. The MDIAC will help OTS meet those goals by providing informed advice and recommendations regarding a range of issues involving minority depository institutions.

Dated: August 11, 2010.
By the Office of Thrift Supervision.
Deirdre A. Foley,
Designated Federal Official.

[FR Doc. 2010-20285 Filed 8-17-10; 8:45 am]

BILLING CODE 6720-01-M